DEPARTMENT OF HEALTH AND HUMAN SERVICES

National Institutes of Health

National Institute of Neurological Disorders and Stroke; Amended Notice of Meeting

Notice is hereby given of a change in the meeting of the National Institute of Neurological Disorders and Stroke Special Emphasis Panel, March 16, 2015, 08:00 a.m. to March 17, 2015, 06:00 p.m., Bethesda North Marriott Hotel & Conference Center, Montgomery County Conference Center Facility, 5701 Marinelli Road, North Bethesda, MD 20852 which was published in the Federal Register on January 23, 2015, 80FRN3613.

The meeting has been changed to a teleconference meeting. The date and time remain the same. The meeting is closed to the public.

Dated: February 5, 2015.
Carolyn Baum,
Program Analyst, Office of Federal Advisory Committee Policy.

[FR Doc. 2015-02757 Filed 2-10-15; 8:45 am]

BILLING CODE 4140-01-P